DEPARTMENT OF THE INTERIOR

Bureau of Land Management

[OR-020-1020-PG; G 01-0060]

Southeast Oregon Resource Advisory Council Meeting

AGENCY: Bureau of Land Management (BLM), Burns District, Interior.

ACTION: Meeting notice for the Southeast Oregon Resource Advisory Council.

SUMMARY: The Southeast Oregon Resource Advisory Council (SEORAC) will meet at the Shilo Inn, Klamath Falls Suites Hotel and Conference Center, 2500 Almond Street, Klamath Falls, Oregon 97601, 8 a.m. to 5 p.m., Pacific Standard Time (PST), on Monday, January 22, and conduct a field tour to view bald eagles, Tuesday, January 23, 2001. The tour will begin early Tuesday morning and should last approximately 2 hours. Contact the BLM office listed below for exact time as the tour date approaches.

The meeting will resume after the tour and should adjourn by 2 p.m., PST, Tuesday, January 23, 2001. Topics to be discussed by the Council include the Forest Service (FS) Roads Restoration Program, the FS Roadless Final Environmental Impact Statement, BLM off-highway vehicle strategy update, a report from the Lakeview Resource Management Plan subcommittee, update on the Malheur Landscape Area Management Plan, a presentation on minerals in the southeast Oregon area, Klamath Falls water issues update, Pelican Butte ski area update, Federal officials' update, reports on FS/BLM fire program expansion, County payment program, and such other matters as may reasonably come before the Council. The entire meeting is open to the public. Information to be distributed to the Council members is requested in written format 10 days prior to the start of the Council meeting. Public comments is scheduled for 11 a.m. to 11:30 a.m., PST, on January 22, 2001.

FOR FURTHER INFORMATION CONTACT: Additional information concerning the SEORAC may be obtained from Holly LaChappelle, Resource Assistant, Burns District Office, HC 74-12533 Hwy 20 West, Hines, Oregon 97738, (541) 573-4501, or Holly LaChappelle@or.blm.gov or from the following web site <http://www.or.blm.gov/SEOR-RAC.>

Dated: December 18, 2000.
Sandra C. Berain,
ADM, Administration.

[FR Doc. 00-33036 Filed 12-27-00; 8:45 am]

BILLING CODE 4310-22-M